DEPARTMENT OF TRANSPORTATION

Surface Transportation Board

[Docket No. FD 35618]

Kingman Terminal Railroad, LLC—Operation Exemption—Kingman Airport Authority, Inc.

Kingman Terminal Railroad, LLC (KTRR), a noncarrier, has filed a verified notice of exemption under 49 CFR 1150.31 to operate over approximately 3 miles of track ¹ within the Kingman Airport & Industrial Park, in Mohave County, Ariz. (the Line).² According to KTRR, the Line has been operated as excepted track by BNSF Railway Company (BNSF). KTRR states that BNSF is voluntarily terminating its switching operation on the Line. KTRR intends to interchange traffic with BNSF.

¹ KTRR states that there are no mileposts on the Line.

² KTRR has filed a copy of the Railroad Lease and Operating Agreement that KTRR has entered into with the Kingman Airport Authority, Inc., a noncarrier. See Anthony Macrie—Continuance in Control Exemption—N.J. Seashore Lines, Inc., FD 35296, slip op. at 3-4 (STB served Aug. 31, 2010).

This transaction is related to a concurrently filed verified notice of exemption in Tennessee Southern Railroad Company, Patriot Rail, LLC, Patriot Rail Holdings LLC, and Patriot Rail Corp.—Continuance in Control Exemption—Kingman Terminal Railroad, LLC, Docket No. FD 35619, wherein Tennessee Southern Railroad Company, Patriot Rail, LLC, and its subsidiaries Patriot Rail Holdings LLC and Patriot Rail Corp., seek Board approval to continue in control of KTRR upon KTRR's becoming a Class III rail carrier.

According to KTRR, the transaction is expected to be consummated on or after May 27, 2012, the effective date of the exemption (30 days after the notice of exemption was filed).

KTRR certifies that its projected annual revenues as a result of this transaction will not exceed those that would make it a Class III carrier and would not exceed $5 million.

If the verified notice contains false or misleading information, the exemption is void ab initio. Petitions to revoke the exemption under 49 U.S.C. 10502(d) may be filed at any time. The filing of a petition to revoke will not automatically stay the effectiveness of the exemption. Petitions to stay must be filed no later than May 18, 2012 (at least 7 days before the exemption becomes effective).

An original and 10 copies of all pleadings, referring to Docket No. FD 35618, must be filed with the Surface Transportation Board, 395 E Street SW., Washington, DC 20423-0001. In addition, a copy of each pleading must be served on Louis E. Gitomer, Law Offices of Louis E. Gitomer LLC, 600 Baltimore Avenue, Suite 301, Towson, MD 21204.

Board decisions and notices are available on our Web site at www.stb.dot.gov.

Decided: May 8, 2012.
By the Board, Rachel D. Campbell, Director, Office of Proceedings.
Raina S. White,
Clearance Clerk.

[FR Doc. 2012-11440 Filed 5-10-12; 8:45 am]

BILLING CODE 4915-01-P